DEPARTMENT OF INTERIOR

Fish and Wildlife Service

50 CFR Part 17

RIN 1018-AI47

Endangered and Threatened Wildlife and Plants; Designation of Critical Habitat for Nine Bexar County, TX, Invertebrate Species

AGENCY: Fish and Wildlife Service, Interior.

ACTION: Proposed rule; notice of availability of draft economic analysis; extension of comment period.

SUMMARY: We, the U.S. Fish and Wildlife Service (Service), announce the availability of the draft economic analysis for the proposed designation of critical habitat for nine endangered karst-dwelling invertebrate species pursuant to the Endangered Species Act of 1973, as amended (Act). The proposed rule published in the Federal Register on August 17, 2002 (67 FR 55064) and the current comment period is open until November 25, 2002. We are extending the comment period for the proposal to designate critical habitat for these species to allow all interested parties to comment simultaneously on the proposed rule and the associated draft economic analysis. The draft economic analysis shows a range of likely costs from the designation of the proposed critical habitat, including those costs attributable coextensively to listing, of between $17.8 to $22.1 million over a 10-year period. Comments previously submitted need not be resubmitted as they will be incorporated into the public record as part of this extended comment period, and will be fully considered in the final rule.

DATES: We will accept comments on both the draft economic analysis and the proposed critical habitat designation until December 23, 2002.

ADDRESSES: You may submit written comments and materials concerning the proposal and draft economic analysis at the hearing or send them directly to Renne Lohoefener, Texas State Administrator, Austin Ecological Services Field Office, U.S. Fish and Wildlife Service, 10711 Burnet Road, Suite 200, Austin, Texas 78758. Written comments may also be sent by facsimile to 512/490-0974. You may also hand-deliver written comments to our U.S. Fish and Wildlife Service's Austin Ecological Services Field Office at the address given above.

You may view comments and materials received, as well as supporting documentation used in the preparation of this proposed rule, by appointment, during normal business hours in the U.S. Fish and Wildlife Service's Austin Ecological Services Field Office at the above address. You may obtain copies of the proposed rule and draft economic analysis from the above address, by calling 512/490-0057, or from our Web site at http://ifw2es.fws.gov/Library/.

FOR FURTHER INFORMATION CONTACT: Bill Seawell, Acting Field Supervisor, U.S. Fish and Wildlife Service, Austin Ecological Services Field Office, at the above address (telephone: 512/490-0057; facsimile: 512/490-0974).

SUPPLEMENTARY INFORMATION: The following nine Bexar County, Texas, invertebrate species were listed as endangered on December 26, 2000 (65 FR 81419): Rhadine exilis (ground beetle, no common name); Rhadine infernalis (ground beetle, no common name); Batrisodes venyivi (Helotes mold beetle); Texella cokendolpheri (Cokendolpher cave harvestman); Cicurina baronia (Robber Baron Cave meshweaver); Cicurina madla (Madla Cave meshweaver); Cicurina venii (Braken Bat Cave meshweaver); Cicurina vespera (Government Canyon Bat Cave meshweaver); and Neoleptoneta microps (Government Canyon Bat Cave spider). All of these species are karst dwelling species of local distribution in north and northwest Bexar County. They spend their entire lives underground.

The proposed critical habitat consists of 25 units (a total of approximately 9,516 acres) in Bexar County, Texas, each encompassing one or more caves or other karst features known to contain one or more of the listed species. “Karst” is a type of terrain that is formed by the slow dissolution of calcium carbonate from limestone bedrock by mildly acidic groundwater. This process creates numerous cave openings, cracks, fissures, fractures, and sinkholes and the bedrock resembles a honeycomb (USFWS 1994). Critical habitat identifies areas that are essential to the conservation of a listed species and that may require special management considerations or protection.

The proposed rule published in the Federal Register on August 17, 2002 (67 FR 55064) and the current comment period is open until November 25, 2002. We are extending the comment period for the proposal to designate critical habitat for these species to allow all interested parties to comment simultaneously on the proposed rule and the associated draft economic analysis. We have prepared a draft economic analysis on the effects of the proposed critical habitat designation, and are now announcing its availability for review. The draft analysis estimates the foreseeable economic impacts of the critical habitat designation on government agencies and private businesses and individuals. The draft economic analysis shows a range of likely costs from the designation of the proposed critical habitat of between $17.8 to $18 million over a 10-year period. Extending the comment period will provide the public an opportunity to evaluate and comment on both the proposed rule and the draft economic analysis. Comments already submitted on the proposed designation of critical habitat do not need to be resubmitted as they will be fully considered in the final determinations.

Public Comment Solicited

The final economic analysis concerning the designation of critical habitat for these species will consider information and recommendations from all interested parties. We will accept written comments and information during this extended comment period.

We solicit comments or suggestions from the public, other concerned governmental agencies, tribes, the scientific community, industry, or any other interested parties concerning the proposal or the draft economic analysis. We particularly seek comments concerning:

(1) Plans or potential for development within the area proposed to be designated;

(2) Plans or potential for agricultural land-uses within the area proposed to be designated, which might require a permit under section 404 of the Clean Water Act, or other types of Federal permits; and

(3) The likelihood of “stigma effects” and costs associated with the designation; and

Comments and materials received, as well as supporting documentation used in preparation of the proposal to designate critical habitat, will be available for inspection, by appointment, during normal business hours at our office listed in the ADDRESSES section.

Authority: The authority for this action is the Endangered Species Act of 1973 (16 U.S.C. 1531 et seq.).

Dated: November 7, 2002.
Paul Hoffman,
Acting Assistant Secretary for Fish and Wildlife and Parks.

[FR Doc. 02-29620 Filed 11-19-02; 10:15 am]

BILLING CODE 4310-55-P